DEPARTMENT OF HOMELAND SECURITY

Coast Guard

33 CFR Part 165

[Docket Number USCG-2025-0839]

RIN 1625-AA00

Safety Zone; West of Cyril E. King Airport, St. Thomas, VI

AGENCY: Coast Guard, DHS.

ACTION: Temporary interim rule and request for comments.

SUMMARY: The Coast Guard is extending the effective period of the current temporary safety zone to December 31, 2025. This action is necessary to protect personnel, vessels, and the marine environment from potential hazards created by the proximity of the low flying aircrafts to vessels in the vicinity of the waters off the Cyril E. King Airport in St. Thomas, USVI. Entry of vessels or persons into this zone is prohibited unless specifically authorized by the Captain of the Port Sector San Juan.

DATES:

Effective date: This rule is effective without actual notice from November 21, 2025 through December 31, 2025. For the purposes of enforcement, actual notice will be used from October 1, 2025, through November 21, 2025.

Comments due date: Comments and related material must be received by the Coast Guard on or before December 22, 2025.

ADDRESSES: You may submit comments identified by docket number USCG-2025-0839 using the Federal Docket Management System at https://www.regulations.gov. See the “Public Participation and Request for Comments” portion of the SUPPLEMENTARY INFORMATION section for further instructions on submitting comments.

FOR FURTHER INFORMATION CONTACT: If you have questions about this rule, call or email Lieutenant Commander Rachel E. Thomas, Sector San Juan, Waterways Management Division Chief, Coast Guard; telephone (571) 613-1417, email Rachel.E.Thomas@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On August 25, 2025, the Coast Guard established a temporary final rule establishing a safety zone for the runway of Cyril E. King Airport in St. Thomas, USVI.¹ The Coast Guard originally published the temporary final rule to be effective through September 30, 2025. We are now extending it to December 31, 2025, to provide an opportunity for comment before we establish a permanent safety zone.

¹ 90 FR 41301.

The Coast Guard is issuing this temporary interim rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this temporary interim rule because there is an immediate need to mitigate the risk of vessels transiting between private port authority managed yellow buoys & the end of the St. Thomas Cyril E. King runway because of their proximity to the low flying aircrafts. Prompt action is needed to respond to the potential safety hazards associated with vessels transiting in the proximity of the runway of Cyril E. King Airport in St. Thomas, USVI. It is impracticable to publish an NPRM because we must establish this safety zone by October 1, 2025.

Also, under 5 U.S.C. 553(d)(3), the Coast Guard finds that good cause exists for making this temporary interim rule effective less than 30 days after publication in the Federal Register. The current temporary final rule around the St. Thomas Cyril E. King runway ends on September 30, 2025; however, the need for the safety zone continues. Delaying the effective date of this temporary interim rule would be impracticable because prompt action is needed starting on October 1, 2025, to respond to the potential safety hazards associated with vessels transiting between private port authority managed yellow buoys & the end of the St. Thomas Cyril E. King runway and their proximity to the low flying aircrafts.

We are soliciting comments on the extension of the enforcement period of this safety zone. Persons wishing to comment may do so by submitting written comments to the office listed under ADDRESSES in this preamble. Commenters should include their names and addresses, identify the docket number for the regulation, and give reasons for their comments.

III. Legal Authority and Need for Rule

The Coast Guard is issuing this temporary interim rule under authority in 46 U.S.C. 70034. The Captain of the Port Sector San Juan (COTP) has determined potential hazards associated with vessels transiting between private port authority managed yellow buoys & the end of the St. Thomas Cyril E. King runway and their proximity to the low flying aircrafts. There is a safety concern for any vessel transiting within approximately 400 yards from shore directly west of the airport's runway. This temporary interim rule is needed to protect personnel, vessels, and the marine environment in the navigable waters within the safety zone.

IV. Discussion of the Rule

On August 25, 2025, the Coast Guard established a temporary safety zone for navigable waters west of the Cyril E. King Airport in St. Thomas, U.S. Virgin Islands. This temporary interim rule extends the effective period through December 31, 2025, to give an opportunity for comment before the Coast Guard establishes a permanent safety zone. The temporary safety zone covers all navigable waters within 400 yards from shore directly west of the airport's runway within the two private port authority managed yellow buoys located at 18°20.288′ N−64°59.343′ W and 18°20.116′ N−64°59.343′ W. No vessel or person will be permitted to enter the safety zone without obtaining permission from the COTP or a designated representative.

V. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves safety zone that will prohibit entry within 400 yards from shore directly west of the airport's runway within the two private port authority managed yellow buoys. It is categorically excluded from further review under paragraph L60(a) of Appendix A, Table 1 of DHS Instruction Manual 023-01-001-01, Rev. 1. A Record of Environmental Consideration supporting this determination is available in the docket. For instructions on locating the docket, see the ADDRESSES section of this preamble.

VI. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Docket Management System at www.regulations.gov. To do so, go to https://www.regulations.gov, type USCG-2025-0839 in the search box and click “Search.” Next, look for this document in the Search Results column, and click on it. Then click on the Comment option. If your material cannot be submitted using http://www.regulations.gov, contact the person in the FOR FURTHER INFORMATION CONTACT section of this document for alternate instructions.

Viewing material in the docket. To view available documents, find the docket as described in the previous paragraph, and then select “Supporting & Related Material” in the Document Type column. We will post public comments in our online docket. Additional information is on the https://www.regulations.gov Frequently Asked Questions web page. Personal information. We accept anonymous comments. Comments we post to https://www.regulations.gov will include any personal information you have provided. For more information about privacy and submissions to the docket in response to this document, see DHS's eRulemaking System of Records Notice (85 FR 14226, March 11, 2020).

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T07-0578 to read as follows:

§ 165.T07-0578 Safety Zone; West of Cyril E. King Airport, St. Thomas, VI.

(a) Location. The following area is a safety zone: All navigable waters within 400 yards from shore directly west of the airport's runway within the two private port authority managed yellow buoys located at 18°20.288′ N−64°59.343′ W and 18°20.116′ N−64°59.343′ W.

(b) Definitions. As used in this section, designated representative means a Coast Guard Patrol Commander, including a Coast Guard coxswain, petty office, or other officer operating a Coast Guard vessel and a Federal, State, and local officer designated by or assisting the Captain of the Port (COTP) San Juan in the enforcement of the safety zone.

(c) Regulations. (1) Under the general safety zone regulations in subpart C of this part, you may not enter the safety zone described in paragraph (a) of this section unless authorized by the COTP or the COTP's designated representative.

(2) To seek permission to enter, contact the COTP or the COTP's representative by telephone at (787) 289-2041, or a designated representative via VHF-FM radio on channel 16 to request authorization. If authorization is granted, all persons and vessels receiving such authorization must comply with the instructions of the COTP San Juan or a designated representative. Those in the safety zone must comply with all lawful orders or directions given to them by the COTP or the COTP's designated representative.

(3) The Coast Guard will provide notice of the regulated area by Local Notice to Mariners, Broadcast Notice to Mariners via VHF-FM channel 16, or the COTP's designated representative.

(d) Enforcement period. This section will be enforced from 12:01 a.m. on October 1, 2025, through 11:59 p.m. on December 31, 2025.

Dated: September 24, 2025.
Luis J. Rodríguez,
Captain, U.S. Coast Guard, Captain of the Port Sector San Juan.

[FR Doc. 2025-20563 Filed 11-20-25; 8:45 am]

BILLING CODE 9110-04-P